FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 8, 2013.

A. Federal Reserve Bank of Richmond (Adam M. Drimer, Assistant Vice President) 701 East Byrd Street, Richmond, Virginia 23261-4528:

1. Family's Future IV Limited Partnership, a proposed qualified family limited partnership with the general partner being Richard G. Perservati, Captiva, Florida, and the limited partner being the Richard G. and Karen N. Preservati Grandchildren's Trust, the co-trustees of which are Richard G. Preservati, II; Gina Preservati Boggess, both of Princeton, West Virginia; Nicholas S. Preservati, Charleston, West Virginia; and Arnold D. Lively, Venice, Florida; all acting in concert, and Richard G. Preservati, II, Princeton, West Virginia, individually, to acquire voting shares of New Peoples Bankshares, Inc., and thereby indirectly acquire voting shares of New Peoples Bank, Inc., both in Honaker, Virginia.

Board of Governors of the Federal Reserve System, October 21, 2013.
Margaret McCloskey Shanks,
Deputy Secretary of the Board.

[FR Doc. 2013-24994 Filed 10-23-13; 8:45 am]

BILLING CODE 6210-01-P